GENERAL SERVICES ADMINISTRATION

[Notice—C0A-2024-01; Docket No. 2024-0002; Sequence No 43]

Office of Human Resources Management; SES Performance Review Board

AGENCY: Office of Human Resources Management (OHRM), General Services Administration (GSA).

ACTION: Notice.

SUMMARY: Notice is hereby given of the appointment of new members to the GSA Senior Executive Service Performance Review Board. The Performance Review Board assures consistency, stability, and objectivity in the performance appraisal process.

DATES: Applicable: October 11, 2024.

FOR FURTHER INFORMATION CONTACT: Mr. Nathaniel Williams, Acting Director, Executive Resources Division, Office of Human Resources Management, GSA, 1800 F Street NW, Washington, DC 20405, or via telephone at (571) 513-9451.

SUPPLEMENTARY INFORMATION: Section 4314(c)(1) through (5) of title 5 U.S.C requires each agency to establish, in accordance with regulation prescribed by the Office of Personnel Management, one or more SES performance review board(s). The board is responsible for making recommendations to the appointing and awarding authority on the performance appraisal ratings and performance awards for employees in the Senior Executive Service.

The following have been designated as members of the Performance Review Board of GSA:

• Katy Kale, Deputy Administrator—PRB Chair.

• Christopher Bennethum, Assistant Commissioner for Assisted Acquisition Services, Federal Acquisition Service.

• Lesley Briante, Associate Chief Information Officer of Digital Management, Office of GSA IT.

• Aluanda Drain, Associate Administrator for Civil Rights, Office of Civil Rights.

• Andrew Heller, Deputy Commissioner for Enterprise Strategy, Public Buildings Service.

• Arron Helm, Chief Human Capital Officer, Office of Human Resources Management.

• Dena McLaughlin, Executive Director, Catalog and Solicitation Management Program Management Office, Federal Acquisition Service.

• Tanisha Palermo, Regional Commissioner, Public Buildings Service, Rocky Mountain Region.

• Flavio Peres, Assistant Commissioner for Real Property Disposition, Public Buildings Service.

• Camille Sabbakhan, Deputy General Counsel, Office of the General Counsel.

Robin Carnahan,
Administrator, General Services Administration.

[FR Doc. 2024-23586 Filed 10-10-24; 8:45 am]

BILLING CODE 6820-FM-P